OFFICE OF PERSONNEL MANAGEMENT

Excepted Service

AGENCY: U.S. Office of Personnel Management (OPM).

ACTION: Notice.

SUMMARY: This notice identifies Schedule A, B, and C appointing authorities applicable to a single agency that were established or revoked from September 1, 2014, to September 30, 2014.

FOR FURTHER INFORMATION CONTACT: Senior Executive Resources Services, Senior Executive Services and Performance Management, Employee Services, (202) 606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A authorities to report during September 2014.

Schedule B

No Schedule B authorities to report during September 2014.

Schedule C

The following Schedule C appointing authorities were approved during September 2014.

Agency name | Organization name | Position title | Authorization No. | Effective date
Department of Agriculture | Farm Service Agency | State Executive Director—Utah | DA140116 | 9/8/2014
| Office of the Assistant Secretary for Congressional Relations | Legislative Analyst | DA140120 | 9/8/2014
| Office of the Secretary | Deputy White House Liaison | DA140123 | 9/18/2014
| Office of Communications | Deputy Director of Scheduling | DA140122 | 9/23/2014
Department of Commerce | Office of the General Counsel | Deputy General Counsel for Strategic Initiatives | DC140156 | 9/8/2014
| Office of the Assistant Secretary for Economic Development | Director of Public Affairs | DC140162 | 9/8/2014
| Office of Assistant Secretary for Legislative and Intergovernmental Affairs | Associate Director of Legislative and Intergovernmental Affairs | DC140164 | 9/16/2014
| Office of Public Affairs | Deputy Speechwriter | DC140165 | 9/19/2014
| Office of the Under Secretary | Chief Speechwriter | DC140170 | 9/23/2014
Commission on Civil Rights | Office of Commissioners | Special Assistant (3) | CC140003 | 9/22/2014
|  |  | CC140005 | 9/22/2014
|  |  | CC140006 | 9/25/2014
Consumer Product Safety Commission | Office of Commissioners | Chief of Staff Special Assistant | PS140013 PS140016 | 9/15/2014 9/30/2014
Department of Defense | Office of the Secretary | Confidential Assistant | DD140142 | 9/10/2014
|  | Special Assistant for Protocol | DD140143 | 9/16/2014
|  | Speechwriter | DD140139 | 9/19/2014
| Office of the Assistant Secretary of Defense (Asian and Pacific Security Affairs) | Special Assistant for East Asia | DD140134 | 9/19/2014
| Office of the Assistant Secretary of Defense (Homeland Defense and America's Security Affairs) | Special Assistant for Homeland Defense and America's Security Affairs | DD140146 | 9/29/2014
Department of the Air Force | Office of the Under Secretary | Special Assistant | DF140031 | 9/8/2014
Department of Education | Office of the Under Secretary | Confidential Assistant | DB140104 | 9/8/2014
| Office of the Deputy Secretary | Special Assistant | DB140051 | 9/9/2014
| Office of Postsecondary Education | Deputy Assistant Secretary | DB140117 | 9/17/2014
| Office of Innovation and Improvement | Special Assistant | DB140118 | 9/19/2014
Department of Energy | Office of Management | Deputy Director, Office of Scheduling and Advance | DE140101 | 9/8/2014
| Assistant Secretary for Congressional and Intergovernmental Affairs | Special Advisor | DE140096 | 9/19/2014
| Office of the Deputy Secretary | Special Assistant | DE140106 | 9/19/2014
| Office of Public Affairs | Director of Digital Strategy | DE140108 | 9/19/2014
| Loan Programs Office | Senior Advisor | DE140109 | 9/19/2014
| Office of Environmental Management | Special Assistant | DE140110 | 9/19/2014
Environmental Protection Agency | Office of Public Affairs | Advisor for Digital Strategy and Engagement | EP140047 | 9/15/2014
| Office of Public Engagement and Environmental Education | Deputy Associate Administrator for Public Engagement and Environmental Education | EP140049 | 9/25/2014
Export-Import Bank | Office of Communications | Senior Vice President for Communications | EB140011 | 9/15/2014
| Office of Congressional Affairs | Senior Vice President | EB140012 | 9/23/2014
Department of Health and Human Services | Office of the Assistant Secretary for Legislation | Special Assistant and Director of Special Projects | DH140123 | 9/2/2014
|  | Special Assistant for Human Services | DH140126 | 9/2/2014
| Office of the Secretary | Special Assistant | DH140125 | 9/4/2014
| Office of the Assistant Secretary for Public Affairs | Communications Director for Health Care | DH140135 | 9/19/2014
|  | Press Secretary | DH140137 | 9/19/2014
Department of Homeland Security | Office of the Chief Privacy Officer | Special Assistant | DM140237 | 9/2/2014
| Office of the Executive Secretariat | Writer-Editor | DM140232 | 9/8/2014
| Office of the Assistant Secretary for Public Affairs | Deputy Press Secretary | DM140244 | 9/22/2014
| Office of the Under Secretary for National Protection and Programs Directorate | Advisor for Counterterrorism and Intelligence | DM140246 | 9/24/2014
Department of Housing and Urban Development | Office of the General Counsel Office of Public Affairs | Senior Counsel for Oversight Assistant Press Secretary | DU140048 DU140050 | 9/11/2014 9/19/2014
Department of Justice | Office of Legal Policy | Senior Counsel | DJ140119 | 9/2/2014
| Office on Violence Against Women | Confidential Assistant | DJ140120 | 9/2/2014
| Civil Division | Senior Counsel | DJ140122 | 9/8/2014
| Office of Public Affairs | Press Assistant (2) | DJ140126 | 9/22/2014
|  |  | DJ140134 | 9/30/2014
Department of Labor | Office of the Secretary | Counselor to the Secretary | DL140095 | 9/2/2014
| Office of Congressional and Intergovernmental Affairs | Regional Representative | DL140097 | 9/11/2014
|  | Deputy Director of Intergovernmental Affairs | DL140103 | 9/19/2014
|  | Director of Intergovernmental Affairs | DL140094 | 9/22/2014
National Aeronautics and Space Administration | Office of Legislative and Intergovernmental Affairs | Senior Advisor | NN140066 | 9/8/2014
Office of Management and Budget | Office of Information and Regulatory Affairs | Counselor | BO140034 | 9/8/2014
| Office of Federal Procurement Policy | Confidential Assistant | BO140036 | 9/29/2014
Office of National Drug Control Policy | Office of the Director | Policy and Administrative Coordinator | QQ140006 | 9/9/2014
| Office of Public Affairs | Associate Director, Office of Public Affairs | QQ140007 | 9/9/2014
Pension Benefit Guaranty Corporation | Deputy Chief Policy Office | Confidential Assistant | BG140001 | 9/23/2014
Small Business Administration | Office of the Administrator | Director of Scheduling and Advance | SB140035 | 9/11/2014
| Office of International Trade | Associate Administrator for International Trade | SB140037 | 9/24/2014
Department of State | Office of the Chief of Protocol | Protocol Officer (Visits) | DS140121 | 9/2/2014
|  | Protocol Officer (Gifts) | DS140122 | 9/15/2014
| Bureau of Economic and Business Affairs | Staff Assistant | DS140128 | 9/16/2014
| Foreign Policy Planning Staff | Staff Assistant | DS140130 | 9/16/2014
| Bureau of Energy Resources | Special Assistant | DS140135 | 9/30/2014
Department of Transportation | Office of the Administrator | Director of Governmental Affairs | DT140056 | 9/9/2014
|  | Associate Administrator for Communications and Legislative Affairs | DT140058 | 9/19/2014
| Office of General Counsel | Associate General Counsel | DT140057 | 9/19/2014
| Office of Public Affairs | Deputy Director of Public Affairs | DT140060 | 9/19/2014
| Office of Assistant Secretary for Aviation and International Affairs | Special Assistant | DT140061 | 9/30/2014
Department of the Treasury | Office of the Secretary of the Treasury | Counselor to the Secretary | DY140120 | 9/11/2014

The following Schedule C appointing authorities were revoked during September 2014.

Agency name | Organization name | Position title | Authorization number | Vacate date
Department of Agriculture | Farm Service Agency | State Executive Director—California | DA130169 | 9/7/2014
| Office of the Assistant Secretary for Congressional Relations | Staff Assistant | DA110044 | 9/20/2014
Department of Commerce | Assistant Secretary and Director General for United States and Foreign Commercial Service | Special Assistant | DC130015 | 9/6/2014
| Director General of the United States and Foreign Commercial Service and Assistant Secretary for Global Markets | Special Assistant for Policy Initiatives | DC140106 | 9/20/2014
Commission on Civil Rights | Office of Commissioners | Special Assistant to the Commissioner | CC130003 | 9/15/2014
Department of Education | Office of the Deputy Secretary | Confidential Assistant | DB130044 | 9/20/2014
Department of Energy | Office of the Deputy Secretary | Special Assistant to the Deputy Chief of Staff | DE130090 | 9/6/2014
Department of Health and Human Services | Office of the Secretary | Director of Scheduling and Advance | DH130059 | 9/2/2014
| Office of the Assistant Secretary for Legislation | Confidential Assistant to the Deputy Assistant Secretary for Mandatory Health Programs | DH120011 | 9/6/2014
|  | Special Assistant | DH130036 | 9/6/2014
| Office of the Assistant Secretary for Preparedness and Response | Confidential Assistant | DH130049 | 9/6/2014
Department of Homeland Security | Office of the Assistant Secretary for Policy | Senior Director | DM130155 | 9/5/2014
| Office of the Assistant Secretary for Public Affairs | Public Affairs and Strategic Communications Assistant | DM120151 | 9/6/2014
| United States Immigration and Customs Enforcement | Special Assistant | DM110170 | 9/9/2014
| Office of the Assistant Secretary for Policy | Confidential Assistant | DM140015 | 9/20/2014
Department of Justice | Executive Office for United States Attorneys | Counsel | DJ140037 | 9/6/2014
Department of Labor | Office of the Secretary | Special Assistant | DL090130 | 9/6/2014
Department of the Navy | Office of the Under Secretary of the Navy | Director, Strategic Communications | DN110038 | 9/6/2014
Office of the Secretary of Defense | Office of Assistant Secretary of Defense (Public Affairs) | Speechwriter | DD130026 | 9/20/2014
Department of Transportation | Office of the Secretary | Associate Director for Transportation Policy | DT130039 | 9/1/2014
| Office of the Administrator | Director of Communications and Legislative Affairs | DT100045 | 9/20/2014
| Office of Assistant Secretary for Governmental Affairs | Deputy Assistant Secretary for Governmental Affairs | DT110045 | 9/20/2014
| Office of Congressional Affairs | Director of Congressional Affairs | DT130027 | 9/20/2014
| Office of Chief Information Officer | Director of Information Technology Strategy | DT130030 | 9/20/2014

Authority: 5 U.S.C. 3301 and 3302; E.O. 10577, 3 CFR, 1954-1958 Comp., p. 218.

U.S. Office of Personnel Management.
Katherine Archuleta,
Director.

[FR Doc. 2014-28622 Filed 12-5-14; 8:45 am]

BILLING CODE 6325-39-P